DEPARTMENT OF DEFENSE

GENERAL SERVICES ADMINISTRATION

NATIONAL AERONAUTICS AND SPACE ADMINISTRATION

48 CFR Parts 2, 31, and 35

[FAR Case 2000-401]

RIN 9000-AI91

Federal Acquisition Regulation; Definitions of “Applied Research” and “Development”

AGENCIES: Department of Defense (DoD), General Services Administration (GSA), and National Aeronautics and Space Administration (NASA).

ACTION: Proposed rule; withdrawal.

SUMMARY: The Civilian Agency Acquisition Council Chairman and the Defense Acquisition Regulations Council Chairman (Councils) have agreed to withdraw Federal Acquisition Regulation (FAR) case 2000-401, Definitions of “Applied Research” and “Development,” which was published in the Federal Register at 65 FR 54940, September 11, 2000. No public comments were received on the case. The proposed rule combined and moved the two separate definitions of “Applied research” and “Development” into the definitions area of the FAR.

FOR FURTHER INFORMATION CONTACT: The FAR Secretariat, Room 4035, GS Building, Washington, DC 20405, (202) 501-4755 for information pertaining to status or publication schedules. For clarification of content, contact Mr. Ralph De Stefano, Procurement Analyst, at (202) 501-1758. Please cite FAR case 2000-401, withdrawal.

SUPPLEMENTARY INFORMATION:

Background

The proposed rule was published in the Federal Register at 65 FR 54940, September 11, 2000. The rule would have reorganized FAR coverage to consolidate the two separate definitions of “Applied Research” and “Development” currently found in FAR 31.205 and 35.001 into the definitions section at FAR 2.101. The Councils viewed this revision as administrative. No public comments were received. After further review, the Councils have concluded that the current coverage is clear and the proposed reorganization is unnecessary. Therefore, the Councils have agreed to withdraw the proposed rule.

List of Subjects in 48 CFR Parts 2, 31, and 35

Government procurement.

Dated: June 17, 2002.
Al Matera,
Director, Acquisition Policy Division.

[FR Doc. 02-15630 Filed 6-19-02; 8:45 am]

BILLING CODE 6820-EP-P